NATIONAL ARCHIVES AND RECORDS ADMINISTRATION

36 CFR Part 1201

RIN 3095-AA77

Debt Collection

AGENCY: National Archives and Records Administration (NARA).

ACTION: Final rule.

SUMMARY: The National Archives and Records Administration (NARA) is adopting as final regulations governing the collection of debts owed to it and other Federal agencies. Federal agencies are required to try to collect debts owed to the Federal Government. These regulations describe actions that NARA may take to collect debts, and apply, with certain exceptions, to any person or entity. These regulations also provide that NARA may enter into a cross-servicing agreement with the U.S. Department of the Treasury (Treasury) under which the Treasury will take authorized action to collect amounts owed to NARA.

EFFECTIVE DATE: This rule is effective on August 5, 2002.

FOR FURTHER INFORMATION CONTACT: Kim Richardson at telephone number 301-713-2902 or fax number 301-713-0319.

SUPPLEMENTARY INFORMATION: The interim rule was published in the July 5, 2002, Federal Register (67 FR 44757) for a 60-day comment period. NARA did not receive any comments. Therefore, NARA is adopting the interim rule as final without change. This rule is not a significant regulatory action for the purposes of Executive Order 12866 and has not been reviewed by the Office of Management and Budget. As required by the Regulatory Flexibility Act, I certify that this rule will not have a significant impact on a substantial number of small entities. This regulation does not have any federalism implications. This rule is not a major rule.

List of Subjects in 36 CFR Part 1201

Administrative practice and procedure, Claims, Debts, Government employees, Wages.

PART 1201—COLLECTION OF CLAIMS

Accordingly, the interim rule adding 36 CFR part 1201 which was published at 67 FR 44757 on July 5, 2002, is adopted as a final rule without change.

Dated: October 4, 2002.
John W. Carlin,
Archivist of the United States.

[FR Doc. 02-25971 Filed 10-10-02; 8:45 am]

BILLING CODE 7515-01-P